CONSUMER PRODUCT SAFETY COMMISSION

16 CFR Part 1220

[CPSC Docket No. 2019-0025]

Safety Standard for Non-Full-Size Baby Cribs; Correction

AGENCY: Consumer Product Safety Commission.

ACTION: Direct final rule; correction.

SUMMARY: The U.S. Consumer Product Safety Commission (CPSC) is correcting an error in a direct final rule, “Safety Standard for Non-Full-Size Baby Cribs,” issued pursuant to a statutory requirement in section 104 of the Consumer Product Safety Improvement Act (CPSIA), and published on January 31, 2025.

DATES: This correction is effective on April 5, 2025, unless the Commission receives a significant adverse comment by February 28, 2025. If the Commission receives such a comment, it will publish a document in the Federal Register, withdrawing this direct final rule correction before its effective date. The incorporation by reference of the publication listed in this rule is approved by the Director of the Federal Register as of April 5, 2025.

ADDRESSES: See the ADDRESSES section in the direct final rule published at 90 FR 8676 (January 31, 2025) for information on submitting comments.

FOR FURTHER INFORMATION CONTACT: Alberta E. Mills, Office of the Secretary, U.S. Consumer Product Safety Commission, 4330 East West Highway, Bethesda, Maryland 20814, telephone: 301-504-7479; email: cpsc-os@cpsc.gov.

SUPPLEMENTARY INFORMATION: CPSC is correcting a direct final rule that appeared in the Federal Register on January 31, 2025. The CPSIA sets forth a process for updating mandatory standards for durable infant or toddler products that are based on a voluntary standard, when a voluntary standards organization revises the standard. In September 2024, ASTM published a revised voluntary standard, ASTM F406-24, and this direct final rule updates the mandatory standard for non-full-size baby cribs to incorporate by reference the 2024 version of ASTM F406. The non-full-size baby crib direct final rule, in 16 CFR 1220.2(b)(14), directs the reader to not comply with sections 9.3.2 through 9.3.2.4 of ASTM F406-24; those sections do not exist in the 2024 version of the ASTM standard.

Correction

In FR Doc. 2025-01721, beginning on page 8676 in the issue of Friday, January 31, 2025, on page 8682, in the third column, 16 CFR 1220.2(b)(14) is corrected to read as follows:

§ 1220.2 [Corrected]

* * * * *

(b) * * *

(14) Do not comply with sections 9.6.1 through 9.6.1.4 of ASTM F406-24.

Alberta E. Mills,
Secretary, Consumer Product Safety Commission.

[FR Doc. 2025-02605 Filed 2-13-25; 8:45 am]

BILLING CODE 6355-01-P